DEPARTMENT OF ENERGY

Federal Energy Regulatory Commission

[Project No. 2146-111, Project No. 82 and Project No. 618]

Alabama Power Company; Notice of Application Tendered for Filing With the Commission, and Establishing Procedural Schedule for Relicensing and a Deadline for Submission of Final Amendments

August 11, 2005.

Take notice that the following hydroelectric application has been filed with the Commission and is available for public inspection.

a. Type of Application: New Major License.

b. Project No.: P-2146-111.

c. Date Filed: July 28, 2005.

d. Applicant: Alabama Power Company.

e. Name of Project: Coosa River Hydroelectric Project, which includes the Weiss, H. Neely Henry, Logan Martin, Lay and Bouldin developments, the Mitchell Hydroelectric Project (P-82), and the Jordan Hydroelectric Project (P-618). Alabama Power Company has requested that Project Nos. 2146, 82, and 618 be consolidated into one project. We intend to process these three projects under Project No. 2146-111.

f. Location: On the Coosa River, in the states of Alabama and Georgia. The Logan Martin development affects less than an acre of federal lands, the Lay development affects 133.5 acres of federal lands, the Mitchell Project affects 127.3 acres of federal lands, and the Jordan Project affects 10.1 acres of federal lands.

g. Filed Pursuant to: Federal Power Act 16 U.S.C. 791 (a)-825(r).

h. Applicant Contact: Mr. Jerry L. Stewart, Senior Vice President and Senior Production Officer, Alabama Power Company, 600 North 18th Street, P.O. Box 2641, Birmingham, AL 35291-8180

i. FERC Contact: Janet Hutzel, (202) 502-8675 or janet.hutzel@ferc.gov.

j. Cooperating agencies: We are asking Federal, state, local, and tribal agencies with jurisdiction and/or special expertise with respect to environmental issues to cooperate with us in the preparation of the environmental document. Agencies who would like to request cooperating status should follow the instructions for filing such requests described in item k below.

k. Deadline for request for cooperating agency status: September 26, 2005.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Requests for cooperating agency status may be filed electronically via the Internet in lieu of paper. The Commission strongly encourages electronic filings. See 18 CFR 385.2001(a)(1)(iii) and the instructions on the Commission's Web site (http://www.ferc.gov) under the “e-Filing” link. The Commission strongly encourages electronic filing.

l. This application has not been accepted for filing. We are not soliciting motions to intervene, protests, or final terms and conditions at this time.

m. Description of Project: The proposed Coosa River Project would consist of seven developments. The Weiss, Neely Henry, and Logan Martin developments would operate in peaking mode. The Lay, Mitchell, Jordan, and Bouldin developments would operate in run-of-river mode. The total capacity for all developments is 960.9 MW, generating about 2,964,054 MWh of energy annually. The project works would include the following:

Weiss Development

The Weiss development consists of: (1) A total of 30,798 feet of water retaining structures which includes a diversion dam and gated spillway, powerhouse about 3.5 miles from the spillway, and earth embankments consisting of: (a) A 7,000-foot-long power canal which carries water from the main reservoir to the powerhouse forebay, (b) a 1,300 foot-long tailrace canal which carries water from the tailrace to the Coosa River, (c) 1.7-mile-long east and 1.8-mile-long west earthfill embankments extending from the powerhouse, (d) 1.35-mile-long east and 1.0-mile-long west earth embankments extending from the spillway, (e) three freeboard dikes, (f) a 120-foot-long and 140-foot-long concrete gravity non-overflow structure to the left and right of the powerhouse, (g) a retaining wall to the left of the spillway, a non-overflow structure to the right of the spillway, (h) a concrete gated spillway equipped with five 40-foot-wide by 38-foot-high Taintor gates and one 16-foot-wide by 22-foot-high Taintor gate which serves as a trash gate, (i) a second trash gate of same dimension located to the right of the powerhouse, and (j) the project configuration resulting in a 20-mile-long bypassed reach of the Coosa River; (2) a 52-mile-long, 30,200-acre reservoir at normal pool elevation 564 feet m.s.l., and total storage capacity of 704,404 acre-ft at maximum elevation 574 feet m.s.l.; (3) a 256-foot-long concrete powerhouse, housing three 39,100 horse power vertical fixed-blade turbines and generating units, each rated at 29.5 MW, a total rated capacity of 87.75 MW, maximum hydraulic capacity of 8,400 cfs, and total hydraulic capacity of 25,200 cfs. Estimated generation is 215,500 MWh.; (4) trashracks located at the turbine intakes with 6-inch bar spacing; (5) a substation; and (6) other appurtenances. Two 115-kilovolt transmission lines, which are not part of the project, connect the substation to Alabama Power's transmission system.

H. Neely Henry Development

The H. Neely Henry development consists of: (1) A total of 4,705 feet of water retaining structures which includes a concrete dam and two earthen embankment sections consisting of: (a) A 305-foot-long spillway equipped with six 40-foot-wide by 29-foot-high Taintor gates, (b) a 300-foot-long intake section, (c) a 120-foot-long non-overflow bulk head section at the east end of the spillway, and (d) a 133-foot-long non-overflow section at the west end of the spillway; (2) a 78-mile-long, 11,235-acre reservoir at normal pool elevation 508 feet m.s.l., and total storage capacity of 30,640 acre-ft at normal elevation 508 feet m.s.l.; (3) a 300-foot-long concrete powerhouse, housing three 33,500 horse power vertical propeller turbines and generating units, each rated at 24.3 MW, a total rated capacity of 72.9 MW, maximum hydraulic capacity of 8,900 cfs, and total hydraulic capacity of 26,700 cfs. The estimated generation is 210,700 MWh.; (4) trashracks located at the turbine intakes with 6-inch bar spacing; (5) a substation; and (6) other appurtenances. Two 115-kilovolt transmission lines, which are not part of the project, connect the substation to Alabama Power's transmission system.

Logan Martin Development

The Logan Martin development consists of: (1) A total of 6,192 feet of water retaining structures which includes a 100-foot-high concrete dam and gated spillway, powerhouse and earthen embankment section consisting of: (a) A 327-foot-long concrete spillway equipped with six 40-foot-wide by 38-foot-high Taintor gates, and one 17.5-foot-wide by 21-foot-high vertical trash gate, (b) a 4,650-foot-long east earth embankment, (c) a 850-foot-long west earth embankment, (d) a 120-foot-long concrete powerhouse intake; (2) a 48.5-mile-long, 15,263-acre reservoir at normal pool elevation 465 feet m.s.l., and total storage capacity of 273,500 acre-ft at normal elevation 465 feet m.s.l.; (3) a 295-foot-long concrete powerhouse, housing three 59,000 horse power vertical propeller turbines and generating units, each rated at 42.75 MW, a total rated capacity of 128.25 MW, maximum hydraulic capacity of 11,000 cfs, and total hydraulic capacity of 33,000 cfs. The estimated generation is 400,200 MWh; (4) trashracks located at the turbine intakes with 6-inch bar spacing; (5) a substation; and (6) other appurtenances. Four 115-kilovolt transmission lines, which are not part of the project, connect the substation to Alabama Power's transmission system.

Lay Development

The Lay development consists of: (1) A total of 2,120 feet of water retaining structures which includes a concrete dam and gated spillway, integrated powerhouse, and an earthen embankment section consisting of: (a) A 194-foot-long concrete bulkhead, (b) a 304-foot-long concrete intake section, (c) a 930-foot-long gated concrete spillway section equipped with twenty-six 30-foot-wide by 17-foot-high radial lift gates, (d) a 180-foot-long concrete bulkhead, and (e) a 512-foot-long earth embankment; (2) a 48.2-mile-long, 12,000-acre reservoir at normal pool elevation 465 feet m.s.l.; (3) a 376-foot-long concrete powerhouse, housing six 40,000 horse power vertical turbines and generating units, each rated at 29.5 MW, a total rated capacity of 177 MW, maximum hydraulic capacity of 5,100 cfs, and total hydraulic capacity of 30,600 cfs. The estimated generation is 639,445 MWh; (4) a total of 144 trashracks located at the turbine intakes with 6-inch bar spacing; (5) a substation and (6) other appurtenances. Four 115-kilovolt transmission lines, which are not part of the project, connect the substation to Alabama Power's transmission system.

Mitchell Development

The Mitchell development consists of: (1) A total of 1,264 feet of water retaining structures which includes a concrete dam and gated spillway, and two powerhouses consisting of: (a) A 964-foot-long gated concrete spillway section equipped with twenty-three 30-foot-wide by 15-foot-high timber faced radial lift gates, and three 30-foot-wide by 25-foot-high steel faced radial gates; (2) a 14-mile-long 5,850-acre reservoir at normal pool elevation 312 feet m.s.l.; (3) two powerhouses which includes; (a) The original 449-foot-long concrete powerhouse, housing one 29,000 horse power vertical turbine and generating unit, rated at 20 MW, maximum hydraulic capacity of 4,788 cfs, and b) a new 300-foot-long concrete powerhouse housing three 69,000 horse power vertical turbines and generating units, rated at 50 MW each, a total rated capacity of 150 MW, maximum hydraulic capacity of 10,454 cfs each, and total hydraulic capacity of 31,362 cfs. The total rated capacity for both project powerhouses is 170 MW, and total estimated generation is 527,666 MWh; (4) a total of 124 trashracks located at the turbine intakes with 6-inch bar spacing; (5) a substation; and (6) other appurtenances. Four 115-kilovolt transmission lines, which are not part of the project, connect the substation to Alabama Power's transmission system.

Jordan Development

The Jordan development consists of: (1) A total of 2,066 feet of water retaining structures which includes a 125-foot-high concrete dam and gated spillway, and integrated powerhouse consisting of: (a) A 75-foot-long non-overflow concrete bulkhead, (b) a 246-foot-long concrete intake section, (c) a 1330-foot-long gated concrete spillway equipped with eighteen 34-foot-wide by 8-foot-high radial lift gates, and seventeen 30-foot-wide by 18-foot-high vertical lift gates, and (d) a 177-foot-long non-overflow concrete bulkhead; (2) an 18-mile-long, 5,880-acre reservoir at normal pool elevation 252 feet m.s.l.; (3) a 300-foot-long concrete powerhouse, housing four 36,000 horse power vertical turbines and generating units, each rated at 25 MW, a total rated capacity of 100 MW, maximum hydraulic capacity of 4,655 cfs each, and total hydraulic capacity of 18,660 cfs. The estimated generation is 148,543 MWh; (4) four trashracks located at the turbine intakes with 4-inch bar spacing; (5) a substation; and (6) other appurtenances. Seven 115-kilovolt transmission lines connect the substation to Alabama Power's transmission system.

Bouldin Development

The Bouldin development consists of: (1) A total of 9,428 feet of water retaining structures which includes a 210-foot-high concrete dam, a powerhouse integrated with the project intake, and two earthen embankments consisting of: (a) A 2,200-foot-long earth embankment left of the intake, (b) a 228-foot-long concrete intake section equipped with three 40-foot-wide by 35.5-foot-high Taintor gates, and (c) a 7,000-foot-long earth embankment right of the intake; (2) a 3-mile-long, 920-acre intake canal at normal pool elevation 252 feet m.s.l.; (3) a 228-foot-long concrete powerhouse, housing three 103,600 horse power propeller-type turbines and generating units, each rated at 75 MW, a total rated capacity of 225 MW, maximum hydraulic capacity of 9,333 cfs each, and total hydraulic capacity of 27,999 cfs. The estimated generation is 822,000 MWh; (4) sixty-three trashracks located at the turbine intakes with 6-inch bar spacing; (5) a substation; and (6) other appurtenances. Four 115-kilovolt transmission lines, which are not part of the project, connect the substation to Alabama Power's transmission system.

n. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

o. Procedural schedule and final amendments: At this time we do not anticipate the need for preparing a draft environmental assessment (EA). Recipients will have 60 days to provide the Commission with any written comments on the EA. All comments filed with the Commission will be considered in the Order taking final action on the license applications. However, should substantive comments requiring re-analysis be received on the EA document, we would consider preparing a subsequent EA document. The application will be processed according to the following Hydro Licensing Schedule. Revisions to the schedule will be made as appropriate.

Issue Acceptance letter or Deficiency Letter and request Additional Information, if needed—September 2005.

Notice soliciting final terms and conditions—December 2005.

Notice of the Availability of the EA—July 2006.

Ready for Commission's decision on the application—November 2006.

Final amendments to the application must be filed with the Commission no later than 30 days from the issuance date of the notice of ready for environmental analysis.

Linda Mitry,
Deputy Secretary.

[FR Doc. E5-4471 Filed 8-16-05; 8:45 am]

BILLING CODE 6717-01-P